DEPARTMENT OF TRANSPORTATION

Federal Aviation Administration

Notice of Intent To Rule on Request To Release Airport Property at the Colorado Springs Airport, Colorado Springs, Colorado

AGENCY: Federal Aviation Administration, (FAA), DOT.

ACTION: Notice of request to release airport property.

SUMMARY: The FAA proposes to rule and invite public comment on the release and sale of a 100.74-acre parcel of land at the Colorado Springs Airport.

DATES: Comments are due within 30 days of the date of the publication of this notice in the Federal Register. Emailed comments can be provided to Mr. Michael Matz, Project Manager/Compliance Specialist, Denver Airports District Office, michael.b.matz@faa.gov, (303) 342-1251.

FOR FURTHER INFORMATION CONTACT: Mr. Troy Stover, Assistant Director of Aviation for Economic Development, Colorado Springs Airport, 7770 Milton E. Proby Parkway Suite 50, Colorado Springs, CO 80916, Troy.Stover@coloradosprings.gov, (719) 238-0398; or Michael Matz, Project Manager/Compliance Specialist, Denver Airports District Office, 26805 E 68th Ave. Suite 224, Denver, CO 80249, michael.b.matz@faa.gov, (303) 342-1251. Documents reflecting this FAA action may be reviewed at the above locations.

SUPPLEMENTARY INFORMATION: The FAA invites public comment on the request to release property at the Colorado Springs Airport under the provisions of 49 U.S.C. 47107(h)(2). The proposal consists of 100.74 acres of land located on the South side of the airport, shown as Parcels 10-A, 10-B, 19A-A, and 19A-B on the Airport Layout Plan. The parcel lies partially inside the Peak Innovation Business Park, North of Milton E. Proby Parkway. The FAA concurs that the parcel is no longer needed for airport purposes. The proposed use of this property is compatible with existing airport operations in accordance with FAA's Policy and Procedures Concerning the Use of Airport Revenue, as published in the Federal Register on February 16, 1999.

Issued in Denver, Colorado on August 30, 2022.
Marc Miller,
Acting Manager, Denver Airports District Office.

[FR Doc. 2022-19121 Filed 9-2-22; 8:45 am]

BILLING CODE 4910-13-P